DEPARTMENT OF ENERGY

Federal Energy Regulatory Commission

[ Project No. 2351-015]

Public Service Company of Colorado; Notice of Availability of Final Environmental Assessment

November 25, 2009.

In accordance with the National Environmental Policy Act of 1969, as amended, and the Federal Energy Regulatory Commission's regulations, 18 CFR Part 380 (Order No. 486, 52 FR 47879), the Commission has reviewed a request to conduct emergency repairs to project facilities under Part 12 of the Federal Power Act at the Cabin Creek Pumped Storage Project, FERC Project No. 2351. The licensee seeks Commission approval to conduct emergency repairs to roadways within the project boundary. The Environmental Assessment (EA) analyzes the environmental impacts of the proposed roadway repairs and concludes that approval of the request, with appropriate environmental measures, would not constitute a major federal action significantly affecting the quality of the human environment. The project is located on Cabin Creek and South Clear Creek in Clear Creek County, Colorado.

The EA was written by staff in the Office of Energy Projects, Federal Energy Regulatory Commission (Commission). A copy of the EA is on file with the Commission and is available for public inspections. The EA may also be viewed on the Commission's Web site at http://www.ferc.gov using the “eLibrary” link. Enter the docket number excluding the last three digits in the docket number field to access the document. For assistance, contact FERC Online Support at FERCOnlineSupport@ferc.gov or toll-free at 1-866-208-3372, or for TTY, (202) 502-8659.

Kimberly D. Bose,
Secretary.

[FR Doc. E9-28914 Filed 12-3-09; 8:45 am]

BILLING CODE 6717-01-P